DEPARTMENT OF THE INTERIOR

Fish and Wildlife Service

50 CFR Part 17

RIN 1018-AT42

Endangered and Threatened Wildlife and Plants; Proposed Designation of Critical Habitat for the Arroyo Toad (Bufo californicus); Correction

AGENCY: Fish and Wildlife Service, Interior.

ACTION: Proposed rule; correction.

SUMMARY: This document corrects the preamble to a proposed rule published in the Federal Register of April 28, 2004, regarding the proposed designation of critical habitat for the arroyo toad (Bufo californicus). The correction is that written requests for public hearings must be received by June 13, 2004.

FOR FURTHER INFORMATION CONTACT: Diane Noda, Field Supervisor, Ventura Fish and Wildlife Office, 2493 Portola Road, Suite B, Ventura, CA 93003 (telephone 805/644-1766; facsimile 805/644-3958).

Correction

In proposed rule FR Doc. 04-9204, beginning on page 23254 in the issue of April 28, 2004, make the following correction, in the DATES section. On page 23254 in the first column, replace the second sentence in the DATES section with the following sentence: “We must receive requests for public hearings, in writing, at the address shown in the ADDRESSES section by June 13, 2004.”

Dated: May 10, 2004.
Paul Hoffman,
Acting Assistant Secretary for Fish and Wildlife and Parks.

[FR Doc. 04-11049 Filed 5-14-04; 8:45 am]

BILLING CODE 4310-55-P